DEPARTMENT OF ENERGY

Federal Energy Regulatory Commission

Combined Notice of Filings # 2

August 11, 2005.

Take notice that the Commission received the following electric rate filings:

Docket Numbers: ER99-2156-004.

Applicants: Cordova Energy Company LLC.

Description: Cordova Energy Company LLC reports that neither it nor any of its affiliates owns or operates electric transmission facilities anywhere in the U.S. except those limited facilities that interconnect the generators to the transmission grid and submits revised tariff sheets revising its Market Behavior Rules.

Filed Date: 08/05/2005.

Accession Number: 20050809-0195.

Comment Date: 5 p.m. Eastern Time on Friday, August 26, 2005.

Docket Numbers: ER00-107-004.

Applicants: La Paloma Generating Company, LLC.

Description: La Paloma Generating Company, LLC submits its response to the 7/6/05 deficiency letter issued by the Commission in Docket No. ER00-107-003.

Filed Date: 08/05/2005.

Accession Number: 20050809-0194.

Comment Date: 5 p.m. Eastern Time on Friday, August 26, 2005.

Docket Numbers: ER02-1257-003; ER02-1319-003; ER02-1633-003.

Applicants: Hermiston Power Partnership; Zion Energy LLC; Auburndale Peaker Energy Center L.L.C.

Description: Hermiston Power Partnership, Zion Energy LLC and Auburndale Peaker Energy Center L.L.C. submit a supplement to their joint updated market power analysis filed on 5/3/05 and revised market-based rate tariff sheets.

Filed Date: 08/05/2005.

Accession Number: 20050809-0193.

Comment Date: 5 p.m. Eastern Time on Friday, August 26, 2005.

Docket Numbers: ER04-435-014; ER05-612-001.

Applicants: Southern California Edison Company.

Description: Southern California Edison Company submits revisions to the Wholesale Distribution Access Tariff, pursuant to the Commission's order issued 7/6/05 in Docket Nos. ER04-435-010 and 012, and ER05-612-000.

Filed Date: 08/05/2005.

Accession Number: 20050809-0199.

Comment Date: 5 p.m. Eastern Time on Friday, August 26, 2005.

Docket Numbers: ER05-1225-001.

Applicants: New York Industrial Energy Buyers, LLC.

Description: New York Industrial Energy Buyers, LLC resubmits its entire market-based rate tariff filed on 7/19/05 with modifications to include the requirement to report changes of status and the Market Behavior rules.

Filed Date: 08/05/2005.

Accession Number: 20050809-0192.

Comment Date: 5 p.m. Eastern Time on Friday, August 26, 2005.

Docket Numbers: ER05-1226-001.

Applicants: New York Commercial Energy Buyers, LLC.

Description: New York Commerical Energy Buyers, LLC resubmits its entire market-based rate tariff filed on 7/19/05 with modifications to include the requirement to report changes of status and the Market Behavior Rules.

Filed Date: 08/05/2005.

Accession Number: 20050809-0191.

Comment Date: 5 p.m. Eastern Time on Friday, August 26, 2005.

Docket Numbers: ER05-1293-000.

Applicants: Carolina Power & Light Company; Florida Power Corporation.

Description: Progress Energy Service Company, LLC, on behalf of Carolina Power & Light Company (CP&L) and Florida Power Corporation (FPC), submits revised tariff sheets to CP&L's and FPC's open access transmission tariff.

Filed Date: 08/05/2005.

Accession Number: 20050809-0186.

Comment Date: 5 p.m. Eastern Time on Friday, August 26, 2005.

Docket Numbers: ER05-1294-000.

Applicants: MidAmerican Energy Company.

Description: MidAmerican Energy Co. submits a notice of cancellation of its Rate Schedule No. 21, an agreement with the Electric and Water Utility Board of the City of Eldridge, Iowa.

Filed Date: 08/05/2005.

Accession Number: 20050809-0187.

Comment Date: 5 p.m. Eastern Time on Friday, August 26, 2005.

Docket Numbers: ER05-1295-000.

Applicants: Midwest Independent Transmission System Operator, Inc.

Description: Midwest Independent Transmission System Operator, Inc. (Midwest ISO) submits an Interconnection and Operating Agreement among Windom Transmission Project LLC, the Midwest ISO and Interstate Power and Light Company.

Filed Date: 08/05/2005.

Accession Number: 20050809-0188.

Comment Date: 5 p.m. Eastern Time on Friday, August 26, 2005.

Docket Numbers: ER05-1296-000.

Applicants: New York Independent System Operator, Inc.

Description: New York Independent System Operator, Inc. and the New York Transmission Owners submit revisions to Attachment X of NYISO's open access transmission tariff.

Filed Date: 08/05/2005.

Accession Number: 20050809-0189.

Comment Date: 5 p.m. Eastern Time on Friday, August 26, 2005.

Docket Numbers: ER05-1297-000.

Applicants: Cleco Power LLC.

Description: Cleco Power LLC submits pro forma revisions to Attachment K of its open access transmission tariff.

Filed Date: 08/05/2005.

Accession Number: 20050809-0190.

Comment Date: 5 p.m. Eastern Time on Friday, August 26, 2005.

Docket Numbers: ER05-1298-000.

Applicants: Portland General Electric Company.

Description: Portland General Electric Co. submits revisions to its pro forma open access transmission tariff.

Filed Date: 08/05/2005.

Accession Number: 20050809-0184.

Comment Date: 5 p.m. Eastern Time on Friday, August 26, 2005.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov. or call (866) 208-3676 (toll free). For TTY, call (202) 502-8659.

Linda Mitry,
Deputy Secretary.

[FR Doc. E5-4465 Filed 8-16-05; 8:45 am]

BILLING CODE 6717-01-P